DEPARTMENT OF TRANSPORTATION

Federal Aviation Administration

Notice of Intent To Rule on Application 01-03-C-00-LWS To Impose and Use, the Revenue from a Passenger Facility Charge (PFC) at Lewiston-Nez Perce County Regional Airport, Submitted by the City of Lewiston and Nez Perce County, Lewiston-Nez Perce County Regional Airport, Lewiston, ID

AGENCY: Federal Aviation Administration (FAA), DOT.

ACTION: Notice of intent to rule on application.

SUMMARY: The FAA proposes to rule and invites public comment on the application to impose and use PFC revenue at Lewiston-Nez Perce County Regional Airport under the provisions of 49 U.S.C. 40117 and part 158 of the Federal Aviation Regulations (14 CFR part 158).

DATES: Comments must be received on or before June 14, 2001.

ADDRESSES: Comments on this application may be mailed or delivered in triplicate to the FAA at the following address: Mr. J. Wade Bryant, Manager; Seattle Airports District Office, SEA-ADO; Federal Aviation Administration; 1601 Lind Avenue SW, Suite 250, Renton, Washington 98055-4056.

In addition, one copy of any comments submitted to the FAA must be mailed or delivered to Mr. Robin Turner, Airport Manager, at the following address: City of Lewiston and Nez Perce County, 406 Burrell Avenue, Lewiston, ID 83501.

Air Carriers and foreign air carriers may submit copies of written comments previously provided to Lewiston-Nez Perce County Regional Airport, under section 158.23 of Part 158.

FOR FURTHER INFORMATION CONTACT: Ms. Suzanne Lee-Pang, (425) 227-2654, Seattle Airports District Office, SEA-ADO; Federal Aviation Administration; 1601 Lind Avenue SW, Suite 250, Renton, Washington 98055-4056. The application may be reviewed in person at this same location.

SUPPLEMENTARY INFORMATION: The FAA proposes to rule and invites public comment on the application 01-03-C-00-LWS to impose and use PFC revenue at Lewiston-Nez Perce County Regional Airport, under the provisions of 49 U.S.C. 40117 and part 158 of the Federal Aviation Regulations (14 CFR part 158).

On May 4, 2001, the FAA determined that the application to impose and use the revenue from a PFC submitted by City of Lewiston and Nez Perce County, Lewiston-Nez Perce County Regional Airport, Lewiston, Idaho was substantially complete within the requirements of § 158.25. The FAA will approve or disapprove the application, in whole or in part, no later than August 7, 2001.

The following is a brief overview of the application.

Level of the proposed PFC: $4.50.

Proposed charge effective date: October 1, 2001.

Proposed charge expiration date: July 1, 2011.

Total requested for use approval: $1,171,746.

Brief description of proposed project: Security Perimeter Fencing; Reconstruct Portion of Taxiways A, B and H; Airport Signing; Acquisition of Aircraft Rescue and Fire Fighting Truck & Equipment; Master Plan Update; Reconstruct Taxiway B (Phase II) and Construct Taxiway M; Acquire Passenger Lift Device; Reconstruct Taxiway B (Phase III) and Rehabilitate Terminal Ramp; Construct Midfield Taxiway and Rehabilitate Runway 11/29; Install Security Gates; Precision Approach Path Indicator Installation on Runways 11/29 and 8/26; Construct Safety Area for Runway 8 Approach and part 77 Obstruction Removal.

Class or classes of air carriers which the public agency has requested not be required to collect PFC's: Non scheduled air taxi/commercial operators utilizing aircraft having seating capacity of less than 20 passengers.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Lewiston-Nez Perce County Regional Airport.

Issued in Renton, Washington on May 4, 2001.
David A. Field,
Manager, Planning, Programming and Capacity Branch, Northwest Mountain Region.

[FR Doc. 01-12107 Filed 5-14-01; 8:45 am]

BILLING CODE 4910-13-M